DEPARTMENT OF TRANSPORTATION

Federal Motor Carrier Safety Administration

[Docket No. FMCSA-2025-0084]

Entry-Level Driver Training: Application for Exemption; Montana Trucking Association

AGENCY: Federal Motor Carrier Safety Administration (FMCSA), Department of Transportation (DOT).

ACTION: Notice of final disposition; grant of application for exemption.

SUMMARY: FMCSA announces its decision to grant an exemption from the qualification requirements pertaining to entry-level driver training (ELDT) theory instructors for Montana Trucking Association's Safety Coordinator, Mr. William Cole. The exemption will allow Mr. Cole to conduct classroom (theory) training for entry-level drivers who intend to operate commercial motor vehicles (CMV) used in the transportation of hazardous materials (HM). The exemption excuses Mr. Cole from the requirement to possess a commercial driver's license (CDL) or have previously held a CDL. FMCSA analyzed the application and public comments and determined that granting the exemption is likely to achieve a level of safety that is equivalent to, or greater than, the level that would be achieved in the absence of the exemption.

DATES: The exemption is effective December 2, 2025 and expires December 2, 2030.

FOR FURTHER INFORMATION CONTACT: Bernadette Walker, FMCSA Driver and Carrier Operations Division; Office of Carrier, Driver and Vehicle Safety Standards; 202-366-2551 or bernadette.walker@dot.gov. If you have questions on viewing or submitting material to the docket, contact Docket Services, telephone (202) 366-9826.

SUPPLEMENTARY INFORMATION:

I. Public Participation Viewing Comments and Documents

To view any documents mentioned as being available in the docket, go to https://www.regulations.gov/docket/FMCSA-2025-0084/document and choose the document to review. To view comments, click this notice, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations. FMCSA must publish a notice of each exemption request in the Federal Register (49 CFR 381.315(a)). The Agency must provide the public an opportunity to inspect the information relevant to the application, including the applicant's safety analysis. The Agency must provide an opportunity for public comment on the request.

The Agency reviews the application, safety analyses and public comments submitted and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulatory Requirements

The Agency's ELDT regulations, set forth in 49 CFR part 380, subparts F and G, establish theory and behind-the wheel (BTW) training requirements for individuals seeking to obtain a Class A or Class B CDL or a passenger (P), school bus (S), or hazardous materials (H) endorsement for the first time. The regulations require that ELDT be conducted only by qualified training providers and training instructors; drivers must obtain ELDT from a training provider listed on FMCSA's Training Provider Registry.

As set forth in the definition of “theory instructor” in 49 CFR 380.605, theory instructors must meet one of these qualifications: (1) The instructor holds a CDL of the same (or higher) class and with all endorsements necessary to operate the CMV for which training is to be provided and has at least 2 years of experience driving a CMV requiring a CDL of the same (or higher) class and/or the same endorsement and meets all applicable State qualification requirements for CMV instructors; or (2) the instructor holds a CDL of the same (or higher) class and with all endorsements necessary to operate the CMV for which training is to be provided, and has at least 2 years of experience as a BTW CMV instructor and meets all applicable State qualification requirements for CMV instructors. The definition of “theory instructor” in 49 CFR 380.605 includes an exception from the requirement that the instructor currently hold a CDL and relevant endorsements, if the instructor previously held a CDL of the same or higher class and complies with the other requirements set forth in the definition.

Because applicants are not required to take an HM-specific skills test to obtain the H endorsement, the ELDT regulations do not contain a BTW curriculum requirement applicable to that endorsement. There are, however, BTW ELDT requirements for applicants seeking a Class A or Class B CDL or a P or S endorsement.

Applicant's Request

Montana Trucking Association's request for an exemption was described in detail in a Federal Register notice on May 20, 2025 (90 FR 21820) and will not be repeated as the facts have not changed.

IV. Public Comments

The Agency received three comments; two opposing comments and one comment that was neither for nor against the exemption. AWM Associates, LLC said, “If Mr. Cole has never had a CDL? How can he teach the curriculum? I appreciate Mr. Cole's expertise; however, it's better suited for the training requirements in 49 CFR Part § 172.704. Mr. Cole's application should be denied.”

Cliff Abbott commented, “If it is necessary, or desirable, to make changes to required training, it should be done for all drivers, not simply for students of one particular instructor regardless of his/her credentials list.”

Michael Ravnitzky suggested a pilot program that would allow Mr. Cole to teach the theory portions of the HM curriculum independently, have a co-instructor or guest lecturer with the required qualifications, track accidents involving Mr. Cole's trainees, and analyze performance data.

V. FMCSA Decision

FMCSA has evaluated Mr. Cole's application for exemption and the public comments. The Agency evaluated Mr. Cole's qualifications, which includes a resume highlighting 14 years of experience as a CMV Enforcement Officer specializing in HM transportation. His credentials also feature certifications from the Commercial Vehicle Safety Alliance (CVSA) for completing the Introduction to HM Instructor Training and the Advanced Courses in HM Instructor Training, both awarded in 2023. FMCSA's National Training Center verified that Mr. Cole successfully completed 40 hours of General Hazardous Materials training in 2010 and 40 hours of North American Standard—Parts A and B in 2013.

While two commenters opposed the application, they did not specifically challenge Mr. Cole's credentials. FMCSA granted a similar exemption to an instructor for Oak Harbor Freight Lines, Inc. in 2022 (87 FR 30551). Because Mr. Cole will be limited to conducting classroom theory training and not BTW training, the Agency believes the exemption will likely achieve a level of safety that is equivalent to, or greater than, the level that will be achieved absent such exemption, in accordance with 49 CFR 381.305(a).

VI. Exemption

A. Applicability of Exemption

This exemption from qualification requirements set forth in the definition of “theory instructor” in 49 CFR 380.605 will allow Mr. William Cole to provide ELDT theory instructions for the H endorsement curriculum in Appendix E of Part 380 without possessing a CDL or having to have previously held a CDL.

B. Terms and Conditions

To provide ELDT instruction under this exemption, Mr. Cole must, within 30 days of employment, submit the name of the registered training provider(s) he is employed by and any subsequent changes to his employer to MCPSD@dot.gov.

C. Preemption

In accordance with 49 U.S.C. 31315(d), as implemented by 49 CFR 381.600, during the period this exemption is in effect, no State shall enforce any law or regulation applicable to interstate commerce that conflicts, or is inconsistent, with this exemption with respect to a firm or person operating under the exemption. States may, but are not required to, adopt the same exemption with respect to operations in intrastate commerce.

VII. Termination

FMCSA does not believe there will be any deterioration in safety stemming from this exemption. However, the exemption will be rescinded if: (1) William Cole fails to comply with the terms and conditions of the exemption; (2) the exemption has resulted in a lower level of safety than would be achieved in the absence of the exemption; or (3) continuation of the exemption would not be consistent with the goals and objects of 49 U.S.C. 31136(e) and 31315(b).

Derek Barrs,
Administrator.

[FR Doc. 2025-21751 Filed 12-1-25; 8:45 am]

BILLING CODE 4910-EX-P